DEPARTMENT OF COMMERCE

International Trade Administration

[A-570-932]

Certain Steel Threaded Rod From the People's Republic of China: Extension of Time Limits for the Preliminary Results of Antidumping Duty Administrative Review

AGENCY: Import Administration, International Trade Administration, Department of Commerce.

DATES: Effective Date: December 12, 2011.

FOR FURTHER INFORMATION CONTACT: Tim Lord, Office 9, AD/CVD Operations, Import Administration, International Trade Administration, U.S. Department of Commerce, 14th Street and Constitution Avenue NW., Washington, DC 20230; telephone: (202) 482-7425.

Background

On April 1, 2011, the Department of Commerce (“Department”) published a notice of opportunity to request an administrative review on the antidumping order on certain steel threaded rod from the People's Republic of China (“PRC”) for the period of review (“POR”) April 1, 2010, through March 31, 2011. See Antidumping or Countervailing Duty Order, Finding, or Suspended Investigation; Opportunity To Request Administrative Review, 76 FR 18153 (April 1, 2011). Based upon requests for review from various parties, on May 27, 2011, the Department initiated an antidumping duty administrative review on certain steel threaded rod from the PRC, covering 192 companies. See Initiation of Antidumping and Countervailing Duty Administrative Reviews, 76 FR 30912, 30916-18 (May 27, 2011). The preliminary results are currently due December 31, 2011.

Statutory Time Limits

Section 751(a)(3)(A) of the Tariff Act of 1930, as amended (“Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of this review within the current time limits. The Department requires additional time to analyze questionnaire (including supplemental questionnaire) responses and surrogate country and value data. This additional time also takes into account analysis of data related to the margin calculation for the individually-reviewed respondent, and the consideration of any issues that may be raised by parties during the course of this proceeding. Therefore, the Department is hereby extending the time limit for completion of the preliminary results by 90 days. The preliminary results will now be due no later than March 30, 2012. The final results continue to be due 120 days after the publication of the preliminary results.

This notice is published in accordance with sections 751(a)(3)(A) and 777(i)(1) of the Act.

Dated: December 6, 2011.
Christian Marsh,
Deputy Assistant Secretary for Antidumping and Countervailing Duty Operations.

[FR Doc. 2011-31841 Filed 12-9-11; 8:45 am]

BILLING CODE 3510-DS-P